DEPARTMENT OF COMMERCE

International Trade Administration

[A-122-840]

Carbon and Certain Alloy Steel Wire Rod from Canada: Extension of Time Limit for Final Results of the Antidumping Duty Administrative Review

AGENCY: Import Administration, International Trade Administration, Department of Commerce.

EFFECTIVE DATE: February 16, 2007.

FOR FURTHER INFORMATION CONTACT: Damian Felton or Brandon Farlander, AD/CVD Operations, Office 1, Import Administration, International Trade Administration, U.S. Department of Commerce, 14th Street and Constitution Avenue, NW, Washington, DC 20230; telephone: (202) 482-0133 or (202) 482-0182, respectively.

SUPPLEMENTARY INFORMATION:

Background

On December 1, 2005, the Department of Commerce (“Department”) published its notice of initiation of an antidumping duty administrative review on carbon and certain alloy steel wire rod from Canada. See Initiation of Antidumping and Countervailing Duty Administrative Reviews and Deferral of Administrative Reviews, 70 FR 72107 (December 1, 2005). On November 6, 2006, the Department published the preliminary results of this review. See Notice of Preliminary Results of Antidumping Duty Administrative Review and Notice of Initiation of Changed Circumstances Review: Carbon and Certain Alloy Steel Wire Rod from Canada, 71 FR 64921 (November 6, 2006).

Extension of Time Limit for Final Results

Pursuant to section 751(a)(3)(A) of the Tariff Act of 1930, as amended (“the Act”), the Department shall issue final results in an administrative review of an antidumping duty order within 120 days after the date on which the preliminary results is published. However, if it is not practicable to complete the review within the specified time periods, section 751(a)(3)(A) of the Act allows the Department to extend this deadline to a maximum 180 days.

Completion of the final results within the originally anticipated time limit, March 6, 2007, is impracticable because this review requires the Department to analyze the complex issues regarding the level of trade. Because it is not practicable to complete the review within the time specified under the Act, in accordance with section 751(a)(3)(A) of the Act, the Department is extending the time limit for completion of the final results by 60 days to May 7, 2007.

We are issuing and publishing this notice in accordance with sections 751(a)(1) and 777(i)(1) of the Act.

Dated: February 12, 2007.
Stephen J. Claeys,
Deputy Assistant Secretary for Import Administration.

[FR Doc. E7-2819 Filed 2-15-07; 8:45 am]

BILLING CODE 3510-DS-S